NUCLEAR REGULATORY COMMISSION

10 CFR Part 72

[NRC-2016-0254]

RIN 3150-AJ88

List of Approved Spent Fuel Storage Casks: TN Americas, LLC, NUHOMS® EOS Dry Spent Fuel Storage System, Certificate of Compliance No. 1042

AGENCY: Nuclear Regulatory Commission.

ACTION: Direct final rule; confirmation of effective date.

SUMMARY: The U.S. Nuclear Regulatory Commission (NRC) is confirming the effective date of June 7, 2017, for the direct final rule that was published in the Federal Register on March 24, 2017. The direct final rule amended the NRC's spent fuel storage regulations by revising the “List of approved spent fuel storage casks” to add the TN Americas, LLC (TN Americas), NUHOMS® Extended Optimized Storage (EOS) Dry Spent Fuel Storage System as Certificate of Compliance (CoC) No. 1042.

DATES: Effective Date: The effective date of June 7, 2017, for the direct final rule published March 24, 2017 (82 FR 14987), is confirmed.

ADDRESSES: Please refer to Docket ID NRC-2016-0254 when contacting the NRC about the availability of information for this action. You may obtain publicly-available information related to this action by any of the following methods:

• Federal Rulemaking Web site: Go to http://www.regulations.gov and search for Docket ID NRC-2016-0254. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Edward Lohr, Office of Nuclear Material Safety and Safeguards, U.S. Nuclear Regulatory Commission, Washington, DC 20555-0001; telephone: 301-415-0253; email: Edward.Lohr@nrc.gov.

SUPPLEMENTARY INFORMATION: On March 24, 2017 (82 FR 14987), the NRC published a direct final rule amending § 72.214 of title 10 of the Code of Federal Regulations by revising the “List of approved spent fuel storage casks” to add the TN Americas NUHOMS® EOS Dry Spent Fuel Storage System as CoC No. 1042. The NUHOMS® EOS System provides horizontal storage of high burnup spent pressurized water reactor (PWR) and boiling water reactor (BWR) fuel assemblies in dry shielded canisters (DSCs). The new PWR and BWR DSCs are the EOS-37PTH DSC and the EOS-89BTH DSC, respectively.

In the direct final rule, the NRC stated that if no significant adverse comments were received, the direct final rule would become effective on June 7, 2017. As described more fully in the direct final rule, a significant adverse comment is a comment where the commenter explains why the rule would be inappropriate, including challenges to the rule's underlying premise or approach, or would be ineffective or unacceptable without a change. Because no significant adverse comments were received, the direct final rule will become effective as scheduled.

The final CoC, technical specifications, and the final Safety Evaluation Report for CoC No. 1042 are available in ADAMS under Package Accession No. ML17116A277.

Dated at Rockville, Maryland, this 24th day of May 2017.
For the Nuclear Regulatory Commission.
Cindy Bladey,
Chief, Rules, Announcements, and Directives Branch, Division of Administrative Services, Office of Administration.

[FR Doc. 2017-11064 Filed 5-26-17; 8:45 am]

BILLING CODE 7590-01-P